FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777 (46 App. U.S.C. 817 (e)) and the Federal Maritime Commission's implementing regulations at 46 CFR Part 540, as amended:

American Cruise Lines, Inc.,

One Marine Park,

Haddam, CT 06438,

Vessel: AMERICAN SPIRIT.

Carnival Corporation,

3655 NW. 87th Avenue,

Miami, FL 33178,

Vessel: CARNIVAL LIBERTY.

Carnival PLC (trading as Cunard Line Limited),

24303 Town Center Drive,

Valencia, CA 91355,

Vessels: QUEEN MARY 2 and QUEEN ELIZABETH 2.

CQ River Cruises L.L.C. (d/b/a American Rivers Cruise Line),

2101 4th Avenue,

Suite 220,

Seattle, WA 98121,

Vessels: COLUMBIA QUEEN.

MSC Crociere S.p.A. of Naples (d/b/a MSC Cruises), Lycoper Holdings Inc., Panama and C.I. Cruises, International S.A. of Geneva, Switzerland,

250 Moonachie Road,

Moonachie, NJ 07074,

Vessel: MSC OPERA.

MSC Crociere S.p.A. of Naples (d/b/a MSC Cruises), Burnous Investment Corporation, Panama and Cruises International SA of Geneva, Switzerland,

250 Moonachie Road,

Moonachie, NJ 07074,

Vessel: MSC LIRICA.

Royal Caribbean Cruises Ltd. (d/b/a Royal Caribbean International),

1050 Caribbean Way,

Miami, FL 33132-2096,

Vessel: ULTRA VOYAGER.

Seabourn Cruise Line Limited,

c/o Carnival Corporation,

3655 NW. 87th Avenue,

Miami, FL 33178.

Vessel: SEABOURN LEGEND, SEABOURN PRIDE, and SEABOURN SPIRIT.

Dated: January 14, 2005.
Bryant L. VanBrakle,
Secretary.

[FR Doc. 05-1144 Filed 1-19-05; 8:45 am]

BILLING CODE 6730-01-P